DEPARTMENT OF ENERGY

Federal Energy Regulatory Commission

[Docket No. RM01-10-001]

Standards of Conduct for Transmission Providers; Notice of Technical Conference

April 19, 2004.

The Federal Energy Regulatory Commission (FERC) will hold a conference/workshop on Standards of Conduct for Transmission Providers on May 10, 2004, at the Doubletree Hotel—Allen Center, 400 Dallas Street, Houston, Texas.

The purpose of the conference is to discuss compliance, training and best practices for implementing the Standards of Conduct for Transmission Providers. The conference will be organized in two sessions. The morning session will include several panels to discuss (1) the duties and responsibilities of a Chief Compliance Officer and best practices from current Chief Compliance Officers; (2) training requirements; and (3) best practices. The afternoon session will give individuals the opportunity to break out into smaller groups to discuss subjects to be decided based on feedback from registrants. The meeting will begin at 10 a.m. and conclude at 3 p.m. All interested persons are invited to attend.

The Commission is hosting this conference to help provide guidance on implementing the Standards of Conduct. It would be helpful for interested persons to e-mail: (1) Specific questions that should be addressed at the conference; (2) ideas on subjects to cover at the conference; or (3) other suggestions to Demetra.Anas@ferc.gov.

Hotel rooms have been blocked at the Doubletree Hotel—Allen Center under the code “FED” for attending guests to reserve a one- or two-night stay. The block will be released on April 28, 2004. You can reserve a room after that date, but on a room- and rate-availability basis. Reservations for hotel rooms can be made by calling 713-759-0202.

There is no registration fee to attend this conference. However, we request that those planning to attend to register online on the Commission Web site at http://www.ferc.gov/whats-new/registration/comp-0510-form.asp.

You are urged to watch for further notices on this conference as plans and a more precise schedule and content evolve. Questions about the conference should be directed to: Demetra Anas, Office of Market Oversight and Investigations, Federal Energy Regulatory Commission, 888 First Street, NE., Washington, DC 20426, 202-502-0178.

Magalie R. Salas,
Secretary.

[FR Doc. E4-938 Filed 4-26-04; 8:45 am]

BILLING CODE 6717-01-P